DEPARTMENT OF AGRICULTURE

Natural Resources Conservation Service

[Docket ID: NRCS-2022-0015]

Request for Public Input About Implementation of the Inflation Reduction Act Funding

AGENCY: Natural Resources Conservation Service, USDA.

ACTION: Request for information.

SUMMARY: The Natural Resources Conservation Service (NRCS) requests public input for NRCS to use to inform how NRCS will implement funds received under the Inflation Reduction Act (IRA) to fund the deployment of climate-smart practices on US farms, ranches, and forestlands through four Farm Bill conservation programs. NRCS is also requesting input on funding to quantify carbon sequestration and carbon dioxide, methane, and nitrous oxide emissions at the field scale. NRCS is specifically interested in public input and recommendations that NRCS can use to improve, expand, and/or build on scientifically-designed quantification systems to monitor and quantify improvements in soil carbon, reductions in nitrogen losses, and the reduction, capture, avoidance, or sequestration of carbon dioxide, methane, or nitrous oxide emissions, associated with agricultural production. In implementing the IRA, NRCS is interested in supporting program implementation and improving program delivery by effectively leveraging partners to increase outreach and expand access to underserved producers. This effort will help NRCS identify and prioritize process improvements for the delivery of funding made available under IRA and the overall administration of the NRCS conservation programs. NRCS will look to identify immediate changes that can be implemented for funding available for fiscal year (FY) 2023 and will continue to identify and adopt additional changes in future years.

DATES: We will consider comments that we receive by December 21, 2022. Comments received after that date will be considered to the extent possible.

ADDRESSES: We invite you to send comments in response to this notice. You may send comments through the method below:

• Federal eRulemaking Portal: Go to http://www.regulations.gov and search for Docket ID: NRCS-2022-0015. Follow the online instructions for submitting comments.

SUPPLEMENTARY INFORMATION:

Background

On August 12, 2022, President Biden signed IRA, (Pub. L. 117-169) into law. IRA builds on the Biden-Harris Administration's historic investments in rural America and furthers the commitment to rural communities demonstrated in the American Rescue Plan Act of 2021 (Pub. L. 117-2) and the Infrastructure Investment and Jobs Act also known as “Bipartisan Infrastructure Law” (Pub. L. 117-58). IRA is a once-in-a-generation opportunity to build critical infrastructure, to protect communities from wildfire and extreme heat and to drive climate-smart agriculture and renewable energy initiatives nationwide.

Agriculture, in particular, is at the forefront of the United States' effort to address climate change. From incentivizing the adoption of climate-smart agriculture, to supporting healthy forests and conservation, to clean energy tax credits, to biofuels, infrastructure and beyond, IRA provides the United State Department of Agriculture (USDA) with significant additional resources to lead this historic charge.

IRA provides unprecedented funding levels targeted to improve soil carbon, reduce nitrogen losses, or reduce, capture, avoid, or sequester carbon dioxide, methane, or nitrous oxide emissions, associated with agricultural production for several NRCS programs. The increased funding levels begin in FY 2023, and rapidly build over 4 years, resulting in the following total additional funds by program and NRCS administrative costs:

• Environmental Quality Incentives Program—$8.45 billion;

• Conservation Stewardship Program—$3.25 billion;

• Regional Conservation Partnership Program—$4.95 billion;

• Agricultural Conservation Easement Program—$1.4 billion;

• Conservation Technical Assistance—$1 billion;

• Greenhous Gas (GHG) Monitoring—$300 million; and

• Administrative costs—$100 million.

These funds provide NRCS with an unprecedented opportunity to implement practices and quantify greenhouse gas emission reductions. NRCS is soliciting public input and recommendations to determine how NRCS can maximize, target, monitor, and quantify improvements to soil carbon, reductions in nitrogen losses, and the reduction, capture, avoidance, or sequestration of carbon dioxide, methane, or nitrous oxide emissions, associated with agricultural production. To minimize complexity and ensure equity across NRCS program implementation, NRCS also requests recommendations on how to streamline and improve program delivery while also expanding access for underserved producers. NRCS will use the input provided in response to this request to implement IRA funding over the next several years.

List of Questions for Commenters

The list of questions below is non-exhaustive, but meant to assist members of the public in formulating comments on some of the most important issues that NRCS is considering as they implement the program. This list of questions is not intended to restrict the feedback that members of the public may provide:

(1) What systems of quantification should NRCS use to measure the carbon sequestration and carbon dioxide, methane, and nitrous oxide emissions outcomes associated with activities funded through IRA?

• How should NRCS design a scientifically-based framework for field-based quantification and analysis that can integrate into USDA's Greenhouse Gas Inventory and Assessment Program?

• What methods should NRCS use to quantify carbon sequestration and carbon dioxide, methane, and nitrous oxide emissions?

• What sources of information should NRCS consider in developing protocols or what preexisting, standardized protocols should be used to support field-based data collection and analysis?

• What types of field-based data should be collected and analyzed to assess carbon sequestration and reduction in carbon dioxide, methane, and nitrous oxide emissions outcomes associated with agricultural and conservation activities?

• How should USDA monitor and track carbon sequestration and greenhouse gas emissions trends and the effects of NRCS supported activities?

• How or should the framework developed by NRCS to provide field-based quantification integrate with satellite data to provide a comprehensive picture of GHG emissions and removals from agricultural activities and conservation practice implementation?

(2) How can NRCS engage the private sector and private philanthropy to leverage the IRA investments, including for systems of quantification?

(3) How should NRCS target IRA funding to maximize improvements to soil carbon, reductions in nitrogen losses, and the reduction, capture, avoidance, or sequestration of carbon dioxide, methane, or nitrous oxide emissions, associated with agricultural production?

(4) How should NRCS streamline and improve program delivery to increase efficiencies and expand access to IRA funded programs and projects for producers, particularly underserved producers?

(5) How can NRCS expand capacity among partners to assist in providing outreach and technical assistance to support the implementation of IRA funding?

Maximizing the Value of Public Feedback

NRCS plans to use the answers provided by the public to inform the approach to determining the best delivery of the IRA funds and the overall administration of NRCS conservation programs. NRCS encourages public comment on these questions and requests any other information or data commenters believe are relevant to this document. The type of feedback that is most useful to NRCS will be comments that identify specific data, policies, procedures or processes, and include actionable information and data, or viable alternatives that meet IRA and other programmatic goals and requirements. To be most useful to NRCS, comments need to do more than simply state that the commenter feels strongly that NRCS should change processes. Instead, to be most helpful, comments should state in plain language what change NRCS should consider or how a suggested change will meet specific goals and requirements, or otherwise improve existing processes.

We highlight a few of those points here, noting that comments that will be most useful to NRCS are those that are guided by the following principles. Commenters should consider these principles as they respond to the questions in this document:

• Specify, to the extent possible, the NRCS program, regulation, or policy at issue and provide the Code of Federal Regulation (CFR) and NRCS Manual citation, where available or applicable. See https://directives.sc.egov.usda.gov for NRCS current policy manuals and handbooks.

• Explain, in the most specific and concise language, why an NRCS regulation, policy, form, or program process should be modified, streamlined, expanded, or removed, as well as specific suggestions about how NRCS can better achieve IRA objectives and reduce unnecessary burdens on producers and partners.

• Provide data to support how specific recommendations would increase benefits achievable by the IRA funding. Commenters may also address how NRCS can best quantify or otherwise obtain and consider accurate, objective information and data about outcomes achieved through IRA funding.

You may contact us by sending an email to: NRCS.IRA.Input@usda.gov if you have questions or concerns. Please specify the docket ID Docket ID: NRCS-2022-0015 in the subject line.

Review of Public Feedback

NRCS will use the public comments to improve our program delivery with the funds made available by IRA and to consider NRCS conservation program improvements more broadly.

This document is issued solely for information and program-planning purposes. Public comments provided in response to this document will not bind NRCS to any further actions, including publication of any formal response or agreement to initiate a recommended change. NRCS will consider the feedback and make changes or process improvements at our sole discretion.

Finally, comments submitted in response to this document will not be considered as petitions for rulemaking submitted as specified in the Administrative Procedure Act (5 U.S.C. 553(e)).

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Persons with disabilities who require alternative means of communication for program information (for example, braille, large print, audiotape, American Sign Language, etc.) should contact the responsible Agency or USDA TARGET Center at (202) 720-2600 (voice and text telephone (TTY)) or dial 711 for Telecommunications Relay Service (both voice and text telephone users can initiate this call from any telephone). Additionally, program information may be made available in languages other than English.

To file a program discrimination complaint, complete the USDA Program Discrimination Complaint Form, AD- 3027, found online at https://www.usda.gov/oascr/how-to-file-aprogram-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Terry Cosby,
Chief, Natural Resources Conservation Service.

[FR Doc. 2022-25292 Filed 11-17-22; 8:45 am]

BILLING CODE 3410-16-P